FEDERAL RETIREMENT THRIFT INVESTMENT

Board Member Meeting

77 K Street NE, 10th Floor, Washington, DC 20002, February 25, 2019, 8:30 a.m.

Open Session

1. Approval of the Minutes of the January 28, 2019 Board Meeting

2. Monthly Reports

(a) Participant Activity Report

(b) Legislative Report

(c) Investment Performance

3. Quarterly Reports

(d) Metrics

4. Results of the FRTIB 2018 FISMA Audit

5. Office of Enterprise Risk Management Annual Report

6. Office of Technology Services Annual Report

7. Additional Withdrawals Project Update

Closed Session

Information covered under 5 U.S.C. 552b (c)(4), (c)(9)(B), and (c)(10).

Contact Person For More Information: Kimberly Weaver, Director, Office of External Affairs, (202) 942-1640.

Dated: February 19, 2019.
Megan Grumbine,
General Counsel, Federal Retirement Thrift Investment Board.

[FR Doc. 2019-03166 Filed 2-22-19; 8:45 am]

BILLING CODE 6760-01-P